DEPARTMENT OF ENERGY

Western Area Power Administration

DEPARTMENT OF THE INTERIOR

Bureau of Land Management

Notice of Intent To Prepare an Environmental Impact Statement/Staff Assessment for the Proposed Construction and Operation of the Rice Solar Energy Project, Riverside County, CA (DOE/EIS-0439) and Possible Land Use Plan Amendments

AGENCY: Western Area Power Administration, DOE; Bureau of Land Management, DOI.

ACTION: Notice of Intent to Prepare an Environmental Impact Statement/Staff Assessment, Possible Land Use Plan Amendments and to Conduct Scoping Meetings; Notice of Floodplain and Wetlands Involvement.

SUMMARY: In compliance with the National Environmental Policy Act of 1969 (NEPA), as amended, the Federal Land Policy and Management Act of 1976 (FLPMA), as amended, and the California Environmental Quality Act (CEQA), the Western Area Power Administration (Western), an agency of the DOE, and the Bureau of Land Management (BLM) Palm Springs—South Coast Field Office, together with the California Energy Commission (CEC), intend to prepare a joint Environmental Impact Statement (EIS)/Staff Assessment (SA), which may include an amendment to the California Desert Conservation Area (CDCA) Plan (1980, as amended) and by this notice are announcing the beginning of the scoping process to inform the public and interested parties and to solicit public comments and identify issues concerning the scope, proposed actions, and alternatives to be addressed in the EIS and SA for the proposed Rice Solar Energy Project (Project) in Riverside County, California. Rice Solar Energy, LLC (RSE) has applied to Western to interconnect the proposed Project to Western's electrical transmission system. This EIS/SA will address Western's proposed Federal action of interconnecting the proposed Project to Western's transmission system and making any necessary modifications to Western facilities to accommodate the interconnection and will also address BLM's proposed action of authorizing rights of way (ROW) for a 230-kilovolt (kV) transmission line, access road, and fiber optic line and possibly amending the CDCA. The EIS/SA will also review the potential environmental impacts of constructing, operating, and maintaining RSE's 150-megawatt (MW) solar-powered generating facility, consisting of a solar field of heliostat mirrors, power block, thermal energy storage system, substation site, transmission line, temporary laydown areas, and other ancillary facilities.

DATES: The public scoping period begins with the publication of this notice and will end on April 28, 2010. Western and BLM will host public scoping meetings to provide information on the proposed Project and gather comments on the proposal. The public scoping meetings will be on March 31, 2010 at Big River Community Services District, 150351 Del Rey Street, Big River, California, and on April 1, 2010 at University of California Riverside-Palm Desert Campus, 75080 Frank Sinatra Drive, Palm Desert, California 92211. Scoping meetings will be from 4 p.m. to 7 p.m. The meetings will be informal, and attendees will be able to speak directly with Western, BLM, and RSE representatives about the proposed Project. Oral or written comments may be provided at the public scoping meetings, mailed or e-mailed to Ms. Liana Reilly at the address listed in the addresses section.

ADDRESSES: Written comments on the scope of the EIS/SA and possible land use plan amendment should be addressed to:

Ms. Liana Reilly, NEPA Document Manager, Western Area Power Administration, P.O. Box 281213, Lakewood, Colorado 80228-8213 or e-mail at RiceSolar@wapa.gov.

Allison Shaffer, Project Manager, Palm Springs-South Coast Field Office, BLM 1201 Bird Center Drive, Palm Springs, California 92262 or e-mail at CAPSSolarRice@blm.gov.

John Kessler, Project Manager, Siting, Transmission and Environmental Protection Division, CEC 1516 Ninth Street, Sacramento, California 95814 or e-mail at Jkessler@energy.state.ca.us.

To help define the scope of the EIS, written comments should be received no later than April 28, 2010.

FOR FURTHER INFORMATION CONTACT: For information on the proposed Project, the EIS process or to receive a copy of the Draft EIS (DEIS) when it is published, contact Ms. Reilly at (720) 962-7253, or (800) 336-7288, or the address provided above.

For information relating to BLM's participation, contact Allison Shaffer at (760) 833-7100 or the address provided above.

For information relating to the CEC's participation, contact John Kessler at (916) 654-4679 or the address above or information can be obtained through the CEC's Public Adviser's Office at (916) 654-8236 or toll free in California, (800) 822-6228, or by e-mail at publicadviser@energy.state.ca.us.

For general information on DOE's NEPA review procedures or status of a NEPA review, contact Ms. Carol M. Borgstrom, Director of NEPA Policy and Compliance, GC-54, U.S. Department of Energy, 1000 Independence Avenue, SW., Washington, DC 20585, telephone (202) 586-4600 or (800) 472-2756.

SUPPLEMENTARY INFORMATION: Western, an agency within DOE, markets Federal hydroelectric power to preference customers, as specified by law. These customers include municipalities, cooperatives, irrigation districts, Federal and State agencies, and Native American tribes. Western's service territory covers 15 western states, including California. Western owns and operates more than 17,000 miles of high-voltage transmission lines. Under Federal law, BLM is responsible for responding to applications for ROW on public lands. BLM has received an application for a ROW authorization to construct and operate a transmission line that would interconnect the Rice Solar Energy Project to Western's transmission system. A portion of the transmission line would cross managed lands in eastern Riverside County, California. Pursuant to BLM's CDCA Plan, sites associated with power generation or transmission not identified in the CDCA Plan will be considered through the plan amendment process. By this notice, the BLM is complying with the requirements in 43 CFR 1610.2 (c) to notify the public of potential amendments to land use plans, subject to the findings of the EIS.

Western and BLM intend to prepare an EIS to analyze the impacts of their respective proposed Federal action and RSE's proposed Project in accordance with the NEPA, as amended, CEQ regulations for implementing NEPA (40 CFR 1500-1508), and agency implementing regulations. This will be accomplished through preparation of a DEIS/SA in coordination with the CEC. Under California law, the CEC is responsible for reviewing the Applications for Certification (AFC) filed for thermal power plants over 50 MW, and also has the role of lead agency for the environmental review of such projects under the CEQA (Pub. Res. Code, sections 21000 et seq. and, 25500 et seq.). The CEC conducts these reviews in accordance with the administrative adjudication provisions of California's Administrative Procedure Act (Government Code section 11400 et seq.) and its own regulations governing site certification proceedings (Cal. Code Regulations., title 20, section 1701 et seq.), which have been deemed CEQA-equivalent by the Secretary of Resources.

RSE is a Santa Monica, California based energy company formed by U.S. Renewables Group, a private equity firm focused exclusively on renewable energy development.

RSE's Proposed Project

RSE proposes to construct a 150-MW solar-powered electrical generation facility in eastern Riverside County, California. The proposed solar generation facility is located within a private land holding of 3,324 acres, of which 2,560 acres constitute the project parcel. The solar generation facility site is approximately 40 miles from Blythe, 65 miles from Needles, and 75 miles from Twentynine Palms. State Route 62 is immediately adjacent to the northern boundary of the proposed solar generation facility and would be the primary access during construction and operation. The proposed solar generation facility would be located on the site of a former airfield (Rice Army Airfield) that was used during World War II as a training site, later transferred to private use, and then abandoned sometime between 1955 and 1958.

The proposed Project would use concentrating solar “power tower” technology to capture the sun's heat to make steam, which would power traditional steam turbine generators. The solar generation facility would contain the power block, a central receiver or tower, solar fields which consist of mirrors or heliostats to reflect the sun's energy to the central tower, a thermal energy storage system, technical and non-technical buildings, a storm water system, two on-site water wells, water supply and treatment system, a wastewater system, evaporation ponds, and other supporting facilities. These facilities would be situated on 1,410 acres within the project parcel and would be surrounded by a site fence. Other Project components would include a new transmission line, a new electrical substation, and an access road.

RSE has applied to Western to interconnect the proposed Project to Western's transmission system. The new 230-kV transmission line from the solar facility would extend approximately ten miles from the solar facility boundary to a new substation to be constructed adjacent to Western's existing line. The substation, to be owned and operated by Western, would be located adjacent to Western's existing Parker-Blythe transmission line. The new substation would be approximately 300 x 400 feet or about three acres.

An on-site temporary laydown area would be used during the construction phase of the Project. Laydown areas within the project parcel total approximately 30 acres and would be used for storage and assembly of proposed Project components and for temporary construction trailers. Because of the remote location of the site, RSE will make available a construction workforce RV/trailer parking camp on the project site near the parking and laydown areas at the north end of the heliostat field. This workforce camp will offer spaces for up to 300 trailers or RVs (in keeping with the county requirement that limits trailer parks to 20 per acre), electrical hookups, and mobile water and sanitary sewer service for the trailers and RVs.

Proposed Agency Actions and Alternatives

Western's proposed action is to interconnect the proposed Project to Western's transmission system at the substation described above. BLM's proposed action is to authorize a ROW in favor of a 230-kV transmission line, access road, and fiber optic line and possibly amend the CDCA.

Western and BLM will also consider the no-action alternative in the EIS. Under the no-action alternative, Western would deny the interconnection request and BLM would not grant a ROW. There would be no plan amendment to the CDCA. For the purpose of impact analysis and comparison in the EIS/SA, it will be assumed that RSE's proposed Project would not be built and the environmental impacts associated with construction and operation would not occur.

Agency Responsibilities

Because interconnection of the proposed Project would incorporate a major new generation resource into Western's power transmission system, Western has determined that an EIS is required under DOE NEPA implementing procedures, 10 CFR part 1021, Subpart D, Appendix D, class of action D6.¹

¹ On October 4, 1999, DOE's Assistant Secretary for Environmental, Safety and Health delegated to Western's Administrator the authority to approve EISs for integrating transmission facilities with Western's transmission grid.

Western and BLM are serving as co-lead Federal agencies, as defined at 40 CFR 1501.5, for preparation of the EIS and will coordinate with the CEC in preparation of a joint NEPA/CEQA EIS/SA. Western and BLM invite other Federal, State, local, and Tribal agencies with jurisdiction by law or special expertise with respect to environmental issues to be cooperating agencies on the EIS, as defined at 40 CFR 1501.6. Such agencies may make a request to Western and BLM to be a cooperating agency by contacting Ms. Reilly at the address listed in the ADDRESSES section. Because the proposed Project may involve action in floodplains or wetlands, this NOI also serves as a notice of proposed floodplain or wetland action, in accordance with DOE regulations for Compliance with Floodplain and Wetlands Environmental Review Requirements at 10 CFR 1022.12(a). The EIS will include a floodplain/wetland assessment and, if required, a floodplain/wetland statement of findings will be issued with the Final EIS or Western and BLM's Records of Decision.

Environmental Issues

This notice is to inform agencies and the public of Western and BLM's intent to prepare an EIS and solicit comments and suggestions for consideration in the EIS. To help the public frame its comments, the following list contains potential environmental issues preliminarily identified for analysis in the EIS:

1. Impacts on protected, threatened, endangered, or sensitive species of animals or plants

2. Impacts on migratory birds

3. Introduction of noxious weeds, invasive, and non-native species

4. Impacts on recreation and transportation

5. Impacts on land use, wilderness, farmlands, and Areas of Critical Environmental Concern

6. Impacts on cultural or historic resources and tribal values

7. Impacts on human health and safety

8. Impacts on air, soil, and water resources (including air quality and surface water impacts)

9. Visual impacts

10. Socioeconomic impacts and disproportionately high and adverse impacts to minority and low-income populations

This list is not intended to be all-inclusive or to imply any predetermination of impacts. Western and BLM invite interested parties to suggest specific issues within these general categories, or other issues not included above, to be considered in the EIS/SA.

A certificate designating approval from the CEC must be obtained by RSE before construction of power plants and/or electric transmission lines and related facilities.

Public Participation

The EIS process includes a public scoping period; public scoping meetings, public review, and hearings on the draft EIS, publication of a final EIS, and publication of separate records of decision by Western and BLM. Persons interested in receiving future notices, Project information, copies of the EIS, and other information on the NEPA review process should contact Ms. Reilly at the address listed in the ADDRESSES section.

Western and BLM will hold public scoping meetings as described in the DATES section above.

The purpose of the scoping meetings is to provide information about the proposed Project, review Project maps, answer questions, and take written comments from interested parties. All meeting locations are handicapped-accessible. Anyone needing special accommodations should contact Ms. Reilly to make arrangements. The public will have the opportunity to provide written comments at the public scoping meetings. Written comments may also be sent to Ms. Reilly by fax, e-mail, or U.S. Postal Service mail. To help define the scope of the EIS, comments should be received by Western no later than April 28, 2010.

Dated: March 24, 2010.
Timothy J. Meeks,
Administrator, Western Power.
Dated: March 19, 2010.
Karla D. Norris,
Associate Deputy State Director, Bureau of Land Management.

[FR Doc. 2010-7019 Filed 3-26-10; 8:45 am]

BILLING CODE 6450-01-P